DEPARTMENT OF HOMELAND SECURITY

Coast Guard

33 CFR Part 3

[Docket Number USCG-2017-0436]

Coast Guard Sector, Marine Inspection Zone, and Captain of the Port Zone Structure; Technical Amendment

AGENCY: Coast Guard, DHS.

ACTION: Final rule.

SUMMARY: This rule makes non-substantive amendments to Coast Guard regulations in association with a change in the Coast Guard's internal organization. The amendment describes the boundaries of a sector, marine inspection zones, and Captain of the Port zones; and describes the reporting relationship between field units; or reflects a change in the identity of the field unit that is responsible for a particular matter. This rule will have no substantive effect on the regulated public.

DATES: This rule is effective June 15, 2017.

ADDRESSES: To view documents mentioned in this preamble as being available in the docket, go to http://www.regulations.gov, type USCG-2017-0436 in the “SEARCH” box and click “SEARCH.” Click on Open Docket Folder on the line associated with this rule.

FOR FURTHER INFORMATION CONTACT: If you have questions on this rule, call or email LCDR Steve Youde at (985) 380-5318 or at steven.m.youde@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

In June 2015, the Coast Guard decided to make a change to the reporting relationship between several of its units within the Eighth District. Specifically, Marine Safety Unit (MSU) Houma, Louisiana, will report directly to Sector New Orleans, Louisiana, and MSU Morgan City, Louisiana, will report to MSU Houma. Currently, MSU Houma reports to MSU Morgan City. This action is needed in order to improve efficiency and increase capabilities by placing resources in closer proximity to work. Coast Guard forces in the MSU Morgan City area of responsibility are currently made up of the parent command at MSU Morgan City, a sub-unit, MSU Houma, located in Houma, and a small detached duty office located in Lafayette. This arrangement was appropriate when Morgan City was the hub of the offshore industry, but the energy boom and associated rise of deepwater exploration and production has made Port Fourchon, located much closer to Houma, the hub of the offshore industry. As a result, the marine safety workload has both increased and moved southeast towards Houma. To a lesser degree, the workload in Lafayette has also increased. This organizational change will transfer the larger command element, including the Captain of the Port (COTP) and Officer in Charge Marine Inspection (OCMI) and several offshore functions, including: Port state control, offshore investigations, and offshore pollution response from Morgan City to Houma. Houma is the central airborne support area for the Gulf of Mexico, the location of the district Bureau of Safety and Environmental Enforcement (BSEE) office, and the location of the Coast Guard's Outer Continental Shelf National Center of Expertise. Houma is a larger city than Morgan City and has better infrastructure to locate most of the Coast Guard Marine Safety functions and resources currently residing in Morgan City.

The purpose of this rulemaking is to align the text of 33 CFR 3.40-15 with a change in the Coast Guard's internal organization.

We did not publish a notice of proposed rulemaking (NPRM) for this regulation. Under both 5 U.S.C. 553(b) (A) and (B), the Coast Guard finds that this rule is exempt from notice and comment rulemaking requirements because these changes involve rules of agency organization, and good cause exists for not publishing an NPRM because the changes made are all non-substantive. This rule consists only of organizational amendments. These changes will have no substantive effect on the public; therefore, it is unnecessary to publish an NPRM. Under 5 U.S.C. 553(d)(3), the Coast Guard finds that, for the same reasons, good cause exists for making this rule effective less than 30 days after publication in the Federal Register. The rule makes non-substantive amendments to 33 CFR 3.40-15, in order to align with a change in the Coast Guard's internal organization. The rule describes the boundaries of a Sector, marine inspection zones, and Captain of the Port zones; and describes the reporting relationship between field units; or reflects a change in the identity of the field unit that is responsible for a particular matter. This rule will have no substantive effect on the regulated public.

III. Legal Authority and Need for Rule

The Coast Guard is issuing this rule under authority in 14 U.S.C 93(a)(2), as delegated, to establish, change the location of, maintain, and operate Coast Guard shore establishments. The rule is needed to reflect a change in the Coast Guard's internal organization.

IV. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This rule has not been designated a “significant regulatory action,” under Executive Order 12866. Accordingly, it has not been reviewed by the Office of Management and Budget.

B. Impact on Small Entities

The Regulatory Flexibility Act of 1980, 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of federal employees who enforce, or otherwise determine compliance with, federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires federal agencies to assess the effects of their discretionary regulatory actions. In particular, the Act addresses actions that may result in the expenditure by a state, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule consists only of organizational amendments. It is categorically excluded from further review under paragraph 34(b) of Figure 2-1 of the Commandant Instruction.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 3

Organization and functions (Government agencies).

For the reasons discussed in the preamble, the Coast Guard amends 33 CFR part 3 as follows:

PART 3—SAFETY COAST GUARD AREAS, DISTRICTS, SECTORS, MARINE INSPECTION ZONES, AND CAPTAIN OF THE PORT ZONES

1. The authority citation for part 3 continues to read as follows:

Authority: 14 U.S.C. 92 & 93; Pub. L. 107-296, 116 Stat. 2135; Department of Homeland Security Delegation No. 0170.1, para. 2(23).

§ 3.40-15 [Amended]

2. In § 3.40-15, remove the words “Morgan City” wherever they appear in the section and add in their place the word “Houma”.

Dated: May 25, 2017.
W.R. Arguin,
Captain, U.S. Coast Guard, Sector Commander.

[FR Doc. 2017-12578 Filed 6-13-17; 4:15 pm]

BILLING CODE 9110-04-P